DEPARTMENT OF STATE

[Public Notice: 12274]

Action: Notice of an Opportunity To Apply for Membership on the Advisory Committee on Responsible Business Conduct

SUMMARY: The Department of State is seeking applications for membership for the 2023-2025 term of the Advisory Committee on Responsible Business Conduct (the “Committee”). The purpose of the Committee is to bring to the U.S. government a source of expertise, knowledge, and insight not available within the Department or elsewhere in the government on issues related to responsible business conduct (RBC), including business and human rights (BHR).

DATES: Applications for membership consideration are due by 5 p.m. Eastern Time (EDT) on December 29, 2023. After that date, the State Department will accept applications under this notice for up to two years from November 28, 2023 to fill vacancies, as applicable.

ADDRESSES: Please submit applications by email to RBCAdvisoryCommittee@state.gov attention: Leslie Taylor, Designated Federal Officer.

FOR FURTHER INFORMATION CONTACT: Leslie Taylor, Designated Federal Officer, Senior Foreign Affairs Officer, telephone: 202-663-2758, email: RBCAdvisoryCommittee@state.gov.

SUPPLEMENTARY INFORMATION: The Committee was established under the general authority of the Secretary of State as set forth in Title 22 of the United States Code, Sections 2651a and 2656 and consistent with the Federal Advisory Committee Act (5 U.S.C. 1001 et seq).

The Department of State is accepting applications for Committee membership. The Committee shall provide information, analysis, and recommendations to the Assistant Secretary of the Bureau of Democracy, Human Rights and Labor (DRL) related to opportunities and challenges regarding BHR, as well as RBC more broadly. The committee may provide advice and/or recommendations on topics, such as:

(a) Implementing the U.S. National Action Plan on Responsible Business Conduct (NAP).

(b) Access to remedy, forced labor, initiatives related to labor rights and supply chains, the U.S. National Contact Point (NCP) for the OECD Guidelines for Multinational Enterprises, the legally binding instrument, and/or other specific topics related to BHR and RBC more broadly.

(e) The Department of State's role in advancing U.S. RBC, including BHR.

Committee Makeup: According to the Committee's Charter, the membership of the Committee consists of representatives of organizations, companies, associations, institutions and other relevant stakeholders having an interest in business and human rights and responsible business conduct, and may include representatives of business, labor unions, public interest groups, trade and professional associations, members of civil society organizations, academic representatives, or any other stakeholder related to RBC. Each Committee member shall serve in a representative capacity, representing the views and interests of their particular organization, institution, association, company, or industry sector.

Qualifications: The Department believes that the most effective member of the Committee will have:

• 10+ years of proven leadership and experience related to RBC, including BHR.

• Well-documented thought leadership.

• Ability to work across stakeholder groups.

• Broad perspective of RBC issues, including BHR.

• Understanding of how government functions.

• Internal approval from their company, organization, and/or institution.

• Time to dedicate to the Committee and/or sub-committees through up to four in-person and/or virtual meetings a year and related preparation.

Level of Seniority: The Department particularly seeks applicants who are executives and/or senior level leaders with decision-making authority; however, a person having substantial responsibility for shaping their organization's BHR and/or RBC activities may be considered. Once appointed, each Committee member may identify up to two staff representatives from their organization to formally support their participation in the Committee.

Other: Members are not required to be a U.S. citizen or work for a U.S.-based organization; however, members may not be registered as a foreign agent under the Foreign Agents Registration Act. Additionally, no member shall represent a company that is majority owned or controlled by a foreign government entity or entities. Members of the Committee will be selected based on their expertise and experience as relevant to RBC, including BHR. In selecting members, DRL will strive for balance in terms of points of view, industry, demographics, geography, and organization and/or company size. Appointments to the Committee shall be made without regard to political affiliation. The Committee will meet, at a minimum, once a year.

Appointments: The DRL Assistant Secretary appoints the members of the Committee in consultation with the Bureau of Economic and Business Affairs. Members shall serve a term of two years, at the pleasure of the DRL Assistant Secretary.

Compensation: Committee members are not special government employees and will receive no compensation for their participation in Committee activities. Members participating in Committee meetings and events will be responsible for their travel, living, and other personal expenses.

Meetings: At least once annually, in Washington, DC, or virtually.

How To Apply: To be considered for membership, submit the following information by 5 p.m. ET on December 29, 2023, to the email address listed in the ADDRESSES section:

1. Name and title of the individual requesting consideration.

2. The applicant's personal resume and/or short bio (bio less than 300 words, please).

3. An affirmative statement that the applicant is not registered or required to register as a foreign agent under the Foreign Agents Registration Act of 1938, as amended.

Members of the Committee will be selected by the Bureau of Democracy Human Rights and Labor (DRL) in consultation with the Bureau of Economic and Business Affairs (EB). Committee members will include representatives from a range of business sectors, labor unions, civil society organizations, academia, as well as any others determined to be appropriate by DRL and EB.

Authorities: The information is sought pursuant to 22 U.S.C. 2651a (Organization of Department of State); 5 U.S.C. 1001 et seq. (Federal Advisory Committee Act); and 41 CGR part 102-3 (the FACA Final Rule).

Purpose: The information solicited on this application will be used to determine whether an individual should be considered for membership on the Advisory Committee on Responsible Business Conduct.

Routine Uses: Information on the Routine Uses for the system can be found in the System of Records Notice State-79, Digital Communication and Outreach.

Disclosure: Providing this information is voluntary. Failure to provide the information requested on this application may result in the applicant's inability to be considered for Committee membership.

Leslie B. Taylor,
Foreign Affairs Officer, Bureau of Democracy, Human Rights, and Labor, Office of Multilateral and Global Affairs, Department of State.

[FR Doc. 2023-26110 Filed 11-27-23; 8:45 am]

BILLING CODE 4710-18-P